DEPARTMENT OF THE INTERIOR

National Park Service

[NPS-WASO-NAGPRA-NPS0027002; PPWOCRADN0-PCU00RP14.R50000]

Notice of Inventory Completion: Tennessee Valley Authority, Knoxville, TN

AGENCY: National Park Service, Interior.

ACTION: Notice.

SUMMARY: The Tennessee Valley Authority (TVA) has completed an inventory of human remains and associated funerary objects in consultation with the appropriate Indian Tribes and Native Hawaiian organizations, and has determined that there is no cultural affiliation between the human remains and associated funerary objects and any present-day Indian Tribes or Native Hawaiian organizations. Representatives of any Indian Tribe or Native Hawaiian organization not identified in this notice that wish to request transfer of control of these human remains and associated funerary objects should submit a written request to TVA. If no additional requestors come forward, transfer of control of the human remains and associated funerary objects to the Indian Tribes or Native Hawaiian organizations stated in this notice may proceed.

DATES: Representatives of any Indian Tribe or Native Hawaiian organization not identified in this notice that wish to request transfer of control of these human remains and associated funerary objects should submit a written request with information in support of the request to TVA at the address in this notice by January 22, 2019.

ADDRESSES: Dr. Thomas O. Maher, TVA, 400 West Summit Hill Drive, WT11C, Knoxville TN 37902-1401, telephone (865) 632-7458, email tomaher@tva.gov.

SUPPLEMENTARY INFORMATION: Notice is here given in accordance with the Native American Graves Protection and Repatriation Act (NAGPRA), 25 U.S.C. 3003, of the completion of an inventory of human remains and associated funerary objects under the control of TVA. The human remains and associated funerary objects were removed from multiple archeological sites in Lauderdale, Limestone, and Madison Counties, AL.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains and associated funerary objects was made by TVA professional staff in consultation with representatives of the Absentee-Shawnee Tribe of Indians of Oklahoma; Alabama-Coushatta Tribe of Texas (previously listed as the Alabama-Coushatta Tribes of Texas); Cherokee Nation; Coushatta Tribe of Louisiana; Eastern Band of Cherokee Indians; Poarch Band of Creeks (previously listed as the Poarch Band of Creek Indians of Alabama); The Chickasaw Nation; The Choctaw Nation of Oklahoma; The Muscogee (Creek) Nation; The Seminole Nation of Oklahoma; and the United Keetoowah Band of Cherokee Indians in Oklahoma (hereafter referred to as “The Consulted Tribes”).

History and Description of the Remains

In March 1934, human remains representing, at minimum, 123 individuals were removed from site 1LU86 in Lauderdale County, AL, by the Alabama Museum of Natural History at the University of Alabama (AMNH). TVA acquired this site on October 9, 1934, for the Wheeler Reservoir project. This site was 350 feet long and 200 feet wide. Although described as a mound, it appears to have been an accumulation of shell, midden debris and natural floodplain soils, rather than intentionally constructed earthen works. No structures were identified, but there were multiple hearths, midden-filled pits and human burials. There are no radiocarbon dates for this site. Recovered artifacts suggest multiple occupations including Late Archaic (4000-1000 B.C.), Early Woodland (1000-500 B.C.), Middle Woodland Copena Phase (A.D. 100-500), Late Woodland (A.D. 500-1000) and Mississippian (A.D. 1200-1500) periods.

The human remains include adults, juveniles, children, and infants of both sexes. No known individuals were identified. The 35 associated funerary objects include one Bell Plain effigy bowl; 11 bone beads; two bone ornaments; one copper earring; two copper ornaments; one copper pendant; nine copper tubular beads; one cordage; one deer antler figurine; one limestone pipe; one McKee Island Brushed jar; one Mississippi Plain bowl; one Mississippi Plain jar; one piece of red ocher; and one shell cup.

At some time during the 1950s, human remains representing, at minimum, two individuals were removed from site 1LI22 in Limestone County, AL, by James Cambron. TVA acquired this site on December 17, 1935, for the Wheeler Reservoir project, but no formal excavations were conducted. Ceramics associated with the Woodland period have been collected from the site. The human remains represent one 30-40 year old male. No known individuals were identified. There are no associated funerary objects.

At some time during the 1950s, human remains representing, at minimum, two individuals were removed from site 1LI27 in Limestone County, AL, by James Cambron. TVA acquired this site on August 7, 1934, for the Wheeler Reservoir project, but no formal excavations were conducted. The site was approximately one acre in size, but nothing is known about it. Projectile points from the Late Archaic and Early Woodland have been collected from the surface of this site. The human remains represent one 13-16 year old and one 5-7 year old. Sex is indeterminate. No known individuals were identified. There are no associated funerary objects.

At some time during the 1950s, human remains representing, at minimum, one individual were removed from site 1LI28 in Limestone County, AL, by James Cambron. TVA acquired this site on April 30, 1935, for the Wheeler Reservoir project, but no formal excavations were conducted. Site 1LI28 was a shell midden. Ceramics recovered from this site suggest a Late Woodland occupation. The human remains are of a 40-50 year old male. No known individuals were identified. No associated funerary objects are present.

At some time during the 1950s, human remains representing, at minimum, one individual were removed from site 1LI29 in Limestone County, AL, by James Cambron. TVA acquired this site on March 2, 1936, for the Wheeler Reservoir project, but no formal excavations were conducted. Site 1LI29 was a village two acres in size. There is no information regarding the chronological components of this site. The human remains are of an adult of undetermined sex. No known individuals were identified. No associated funerary objects are present.

At some time during the 1950s, human remains representing, at minimum, two individuals were removed from site 1LI30 in Limestone County, AL, by James Cambron. TVA acquired this site on October 4, 1934, for the Wheeler Reservoir project, but no formal excavations were conducted. Site 1LI30 was a cave in the bluff. There is no information regarding the chronological components of this site. The human remains are of a 17-20 and a 13-15 year old of undetermined sex. No known individuals were identified. No associated funerary objects are present.

At some time during the 1950s, human remains representing, at minimum, three individuals were removed from site 1LI33 in Limestone County, AL, by James Cambron. TVA acquired this site on March 2, 1936, for the Wheeler Reservoir project, but no formal excavations were conducted. Site 1LI33 was described as a mound 10 feet high and 300 feet in diameter. There is no information regarding the chronological components of this site. The human remains are of a 50+ year old male; a 10-15 year old of undetermined sex; and an adult of unknown sex. No known individuals were identified. No associated funerary objects are present.

At some time during the 1950s, human remains representing, at minimum, six individuals were removed from site 1LI34 in Limestone County, AL, by James Cambron. TVA acquired this site on July 25, 1935, for the Wheeler Reservoir project, but no formal excavations were conducted. Site 1LI34 was described as a village extending 800 feet along the river bank. Artifacts typical of the Archaic and Woodland period have been found at this site. The human remains are fragmentary. Two of the individuals are male, but the sex of the other four could not be determined. Ages ranged from 4 to 45. No known individuals were identified. No associated funerary objects are present.

At some time during the 1950s, human remains representing, at minimum, two individuals were removed from site 1LI35 in Limestone County, AL, by James Cambron. TVA acquired this site on July 25, 1935, for the Wheeler Reservoir project, but no formal excavations were conducted. Site 1LI35 was described as a mound three feet high, 50 feet wide and 50 feet long. There is no information regarding the chronological components of this site. The human remains include one male 50+ years old and one 10-12 years old of unknown sex. No known individuals were identified. No associated funerary objects are present.

At some time during the 1950s, human remains representing, at minimum, one 30-40 year old male were removed from site 1LI45 in Limestone County, AL, by James Cambron. TVA acquired this site on December 11, 1934, for the Wheeler Reservoir project, but no formal excavations were conducted. Site 1LI45 was described as a shell midden along the original levee of the Tennessee River. Artifacts from this site indicate occupation from the Late Archaic to the Late Woodland. No known individuals were identified. No associated funerary objects are present.

At some time during the 1950s, human remains representing, at minimum, three individuals were removed from site 1LI46 in Limestone County, AL, by James Cambron. TVA acquired this site on December 11, 1934, for the Wheeler Reservoir project, but no formal excavations were conducted. Site 1LI46 was described as an artifact scatter along the original levee of the Tennessee River. Artifacts from this site indicate occupation from the Late Archaic to the Mississippian period. The human remains include two 30-40 years old males and one 20-30 year old of unknown sex. No known individuals were identified. No associated funerary objects are present.

At some time during the 1950s, human remains representing, at minimum, two individuals were removed from site 1LI50 in Limestone County, AL, by James Cambron. TVA acquired this site on July 25, 1935, for the Wheeler Reservoir project, but no formal excavations were conducted. Site 1LI50 was described as a shell midden. Artifacts suggest a Late Archaic to Early Woodland occupation. The human remains include one 17-19 year old female and an adult female. No known individuals were identified. No associated funerary objects are present.

At some time during the 1950s, human remains representing, at minimum, seven individuals were removed from site 1LI51 in Limestone County, AL, by James Cambron. TVA acquired this site on December 20, 1934, for the Wheeler Reservoir project, but no formal excavations were conducted. Site 1LI51 was described as a shell midden. Artifacts suggest occupations during the Late Archaic, Middle Woodland and Late Woodland. The human remains include three 30-50 year old males; one 40-50 year old female, and three juveniles of indeterminate sex. No known individuals were identified. No associated funerary objects are present.

From February through March 1934, human remains representing, at minimum, 25 individuals were removed from site 1MA4, in Madison County, AL, by AMNH. TVA acquired a strip of land around the periphery of Hobbs Island encompassing this site on May 23, 1939 as part of the Wheeler Reservoir project, but the excavation was conducted with Federal funds in anticipation of the inundation of this site. The site was a shell midden 300 x 125 feet and adjacent to the island's shoreline. There are no radiocarbon dates available for this site, but artifacts from a non-mortuary context suggest Langston (A.D. 900-1200) and Hobbs Island (A.D. 1200-1450) phase occupations. The human remains include infants, adolescents, and adults of both sexes. No known individuals were identified. There are no associated funerary objects.

From March 1940 to July 1941, human remains representing, at minimum, nine individuals were removed from site 1MA31/1MA32 in Madison County, AL. TVA acquired this site on July 6, 1936, for the Wheeler Reservoir project. 1MA31 and 1MA32 are now considered one multi-mound and village site. The site was composed of one small conical mound; a 200 x 1000 foot village area and a large mound 10 feet in height and 75 x 105 feet at the base. These mounds were domiciliary, rather than mortuary, in nature. Unfortunately, both mounds had suffered from looting prior to excavation. Recent radiocarbon dates of animal bone from a non-mortuary context have a calibrated two-sigma range of A.D. 1050-1275, indicating an occupation from the early to middle Mississippian period. The human remains are in a fragmentary state, making it impossible to determine sex, but most of the individuals appear to be adults over the age of eighteen. No known individuals were identified. There are no associated funerary objects.

Determinations Made by the Tennessee Valley Authority

Officials of Tennessee Valley Authority have determined that:

• Pursuant to 25 U.S.C. 3001(9), the human remains described in this notice are Native American based on their presence in prehistoric archeological sites and an osteological analysis.

• Pursuant to 25 U.S.C. 3001(9), the human remains described in this notice represent the physical remains of 189 individuals of Native American ancestry.

• Pursuant to 25 U.S.C. 3001(3)(A), the 35 objects described in this notice are reasonably believed to have been placed with or near individual human remains at the time of death or later as part of the death rite or ceremony.

• Pursuant to 25 U.S.C. 3001(2), a relationship of shared group identity cannot be reasonably traced between the Native American human remains and associated funerary objects and any present-day Indian Tribe.

• According to final judgments of the Indian Claims Commission or the Court of Federal Claims, the land from which the Native American human remains and associated funerary objects were removed is the aboriginal land of the Cherokee Nation; Eastern Band of Cherokee Indians; and the United Keetoowah Band of Cherokee Indians in Oklahoma.

• The Treaty of September 20, 1816, indicates that the land from which the Native American human remains were removed is the aboriginal land of The Chickasaw Nation.

• Pursuant to 43 CFR 10.11(c)(1), the disposition of the human remains and associated funerary objects will be to the Cherokee Nation; Eastern Band of Cherokee Indians; The Chickasaw Nation; and the United Keetoowah Band of Cherokee Indians in Oklahoma.

Additional Requestors and Disposition

Representatives of any Indian Tribe or Native Hawaiian organization not identified in this notice that wish to request transfer of control of these human remains and associated funerary objects should submit a written request with information in support of the request to Dr. Thomas O. Maher, TVA, 400 West Summit Hill Drive, WT11C, Knoxville, TN 37902-1401, telephone (865) 632-7458, email tomaher@tva.gov, by January 22, 2019. After that date, if no additional requestors have come forward, transfer of control of the human remains and associated funerary objects to the Cherokee Nation; Eastern Band of Cherokee Indians; The Chickasaw Nation; and the United Keetoowah Band of Cherokee Indians in Oklahoma may proceed.

The Tennessee Valley Authority is responsible for notifying The Consulted Tribes that this notice has been published.

Dated: November 19, 2018.
Melanie O'Brien,
Manager, National NAGPRA Program.

[FR Doc. 2018-27710 Filed 12-20-18; 8:45 am]

BILLING CODE 4312-52-P